DEPARTMENT OF TRANSPORTATION

Maritime Administration

46 CFR Part 296

[Docket No. MARAD-2004-18489]

RIN 2133-AB62

Maritime Security Program

AGENCY: Maritime Administration, Department of Transportation.

ACTION: Notice of extension of comment period.

SUMMARY: The Maritime Administration is hereby giving notice that the closing date for filing comments on the Maritime Security Program interim final rule (Docket No. MARAD 2004-18489) has been extended to the close of business (5 p.m. e.t.) on August 30, 2004. The interim final rule was published in the Federal Register on July 20, 2004 (69 FR 43328).

Dated: August 18, 2004.
By Order of the Maritime Administrator.
Joel C. Richard,
Secretary, Maritime Administration.

[FR Doc. 04-19322 Filed 8-23-04; 8:45 am]

BILLING CODE 4910-81-P